DEPARTMENT OF ENERGY

Federal Energy Regulatory Commission

[Docket No. EL05-108-000]

Longview Power, LLC, Complainant, v. Monongahela Power Company, Doing Business as Allegheny Power, and Allegheny Energy Supply Company, LLC, Respondents; Notice of Complaint and Request for Fast Track Processing

May 10, 2005.

Take notice that on May 9, 2005, Longview Power, LLC (Longview) filed a formal complaint against Monongahela Power Company, doing business as Allegheny Power, and Allegheny Energy Supply Company, LLC (collectively, Allegheny) pursuant to section 206 of the Federal Power Act, 16 U.S.C. 824e (2000), and Rule 206 of the Commission's Rules of Practice and Procedure, 18 CFR 385.206 (2004), alleging that Allegheny has violated the interconnection requirements of both the Commission and PJM Interconnection, L.L.C. (PJM). Longview has requested Fast Track Processing of the complaint pursuant to 18 CFR 385.206(h) (2004).

Longview certifies that a copy of the complaint was served on the contacts for Monongahela Power Company, Allegheny Energy Supply Company, LLC, and PJM, as listed on the Commission's list of Corporate Officials, and on the Public Service Commission of West Virginia.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protest must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on May 31, 2005.

Linda Mitry,
Deputy Secretary.

[FR Doc. E5-2435 Filed 5-13-05; 8:45 am]

BILLING CODE 6717-01-P